DEPARTMENT OF HEALTH AND HUMAN SERVICES

National Institutes of Health

National Institute of Environmental Health Sciences; Amended Notice of Meeting

Notice is hereby given of a change in the meeting of the National Institute of Environmental Health Sciences Special Emphasis Panel, March 25, 2020, 08:00 a.m. to March 26, 2020, 03:00 p.m., National Institute of Environmental Health Science, Keystone Building, 530 Davis Drive, Research Triangle Park, NC 27709 which was published in the Federal Register on February 10, 2020, 85 FRN 5460.

The March 25th-26th 2020, NIEHS Special Emphasis Panel Meeting is being amended due to a change in the meeting format. This two-day meeting is being changed from an in-person meeting to a teleconference meeting. The meeting is closed to the public.

Dated: March 18, 2020.
Tyeshia M. Roberson,
Program Analyst, Office of Federal Advisory Committee Policy.

[FR Doc. 2020-06131 Filed 3-23-20; 8:45 am]

BILLING CODE 4140-01-P